DEPARTMENT OF HOUSING AND URBAN DEVELOPMENT

[Docket No. FR-5560-D-01]

Delegation of Authority for the Center for Faith-Based and Neighborhood Partnerships

AGENCY: Office of the Secretary, HUD.

ACTION: Notice of delegation of authority.

SUMMARY: Through this notice, the Secretary delegates to the Director, Center for Faith-Based and Neighborhood Partnerships, authority and responsibility for the direction of HUD's faith-based initiatives specifically relating to coordination with secular and faith-based nonprofit organizations seeking to partner with HUD, the provision of resources to those organizations, and the establishment of relationships between HUD and outside partners, practitioners, and organizations from the nonprofit and faith communities to more effectively identify and meet the needs of some of the Nation's most vulnerable citizens.

DATES: Effective Date: August 19, 2011.

FOR FURTHER INFORMATION CONTACT: Paula A. Lincoln, Acting Director, Center for Faith-Based and Neighborhood Partnerships, Department of Housing and Urban Development, 451 7th Street, SW., Room 10184, Washington, DC 20410, telephone number 202-708-2404. (This is not a toll-free number.) Persons with hearing or speech impairments may access this number through TTY by calling the toll-free Federal Relay Service at 1-800-877-8339.

SUPPLEMENTARY INFORMATION:

Section A. Authority Delegated

The Secretary hereby delegates to the Director, Center for Faith-Based and Neighborhood Partnerships, the authority and responsibility for the direction of HUD's faith-based initiatives, specifically relating to coordination with secular and faith-based nonprofit organizations seeking to partner with HUD, the provision of resources to those organizations, and the establishment of relationships between HUD and outside partners, practitioners, and organizations from the nonprofit and faith communities to more effectively identify and meet the needs of some of the Nation's most vulnerable citizens.

Section B. Authority Excepted

The authority delegated in this document does not include the authority to sue or be sued or to issue or waive regulations.

Section C. Authority to Redelegate

The Secretary authorizes the Director, Center for Faith-Based and Neighborhood Partnerships, to redelegate the authority described in Section A.

Section D. Authority Superseded

This delegation supersedes all prior delegations of authority to the Center for Faith-based and Neighborhood Partnerships. The Secretary may revoke the authority authorized herein, in whole or part, at any time.

Authority: Section 7(d) of the Department of Housing and Urban Development Act (42 U.S.C. 3535(d)).

Dated: August 19, 2011.
Shaun Donovan,
Secretary.

[FR Doc. 2011-22187 Filed 8-29-11; 8:45 am]

BILLING CODE 4210-67-P